DEPARTMENT OF HEALTH AND HUMAN SERVICES

National Institutes of Health

National Institutes of Health Announcement of Scientific Conference

ACTION: Notice.

UPCOMING CONFERENCE: Carnitine: The Science Behind a Conditionally Essential Nutrient

SUMMARY: The National Institute of Child Health and Human Development, the National Center for Complementary and Alternative Medicine, the National Institute of Mental Health, and the Office of Dietary Supplements are sponsoring a conference, Carnitine: The Science Behind a Conditionally Essential Nutrient. The conference will take place on March 25 and 26, 2004 at the Natcher Conference Center on the campus of the National Institutes of Health in Bethesda, Maryland.

This conference will address the following topics related to Carnitine:

• Basic physiology and pharmacology;

• Carnitine replacement in primary and secondary carnitine deficiency syndromes; and

• Carnitine supplementation in exercise, cardiovascular disease, obesity, diabetes, HIV infection, aging, cancer, and infertility.

The overall conference goals are to:

• Provide the scientific and lay communities with the most updated, evidence-based information regarding the role of carnitine in health and disease prevention;

• Clarify issues relevant to appropriate uses of carnitine; and

• Propose new areas of research for future studies in this nutrient.

ACCREDITATIONS: The American College of Nutrition is accredited by the Accreditation Council for Continuing Medical Education (ACCME) to sponsor continuing medical education for physicians.

The American College of Nutrition designates this continuing medical education activity for 12.5 CME credit hours in Category 1 of the Physician's Recognition Award of the American Medical Association.

The Certification Board for Nutrition Specialist (CBNS) authorizes 12.5 CNE credits hours for Certified Nutrition Specialists (CNS).

FOR FURTHER INFORMATION CONTACT: The conference Web site at www.scgcorp.com/carnitine2004/index.htm.

Dated: March 4, 2004.
Christy Thomsen,
Director, Office of Communications and Public Liaison, National Center for Complementary and Alternative Medicine, National Institutes of Health.

[FR Doc. 04-5297 Filed 3-8-04; 8:45 am]

BILLING CODE 4140-01-M